DEPARTMENT OF HEALTH AND HUMAN SERVICES

Centers for Disease Control and Prevention (CDC)

Citizens Advisory Committee on Public Health Services Activities and Research at Department of Energy Sites: Notice of Charter Renewal

This gives notice under the Federal Advisory Committee Act (Public Law 92-463) of October 6, 1972, that the Citizens Advisory Committee on Public Health Services Activities and Research at Department of Energy Sites of the Department of Health and Human Services, has been renewed for a 2-year period beginning July 7, 2000, through July 7, 2002.

For further information, contact Ron Valdiserri, M.D., Executive Secretary, Citizens Advisory Committee on Public Health Services Activities and Research at Department of Energy Sites, 1600 Clifton Road, NE, m/s E-07, Atlanta, Georgia 30333. Telephone 404/639-8002, or fax 404/639-8600.

The Director, Management Analysis and Services Office, has been delegated the authority to sign Federal Register notices pertaining to announcements of meetings and other committee management activities, for both the Centers for Disease Control and Prevention and the Agency for Toxic Substances and Disease Registry.

Dated: July 20, 2000.
John Burckhardt,
Acting Director, Management Analysis and Services Office, Centers for Disease Control and Prevention.

[FR Doc. 00-19071 Filed 7-27-00; 8:45 am]

BILLING CODE 4163-18-P